DEPARTMENT OF THE INTERIOR

Bureau of Land Management

[BLM_CO_FRN_MO4500181910]

Availability of the Records of Decision and Approved Resource Management Plans for the Grand Junction Field Office and the Colorado River Valley Field Office, Colorado

AGENCY: Bureau of Land Management, Interior.

ACTION: Notice of availability.

SUMMARY: The Bureau of Land Management (BLM) announces the availability of the Records of Decision (RODs) for the approved Resource Management Plans (RMPs) for the Colorado River Valley Field Office (CRVFO) and the Grand Junction Field Office (GJFO) located in western Colorado. The Colorado State Director signed the RODs on October 16, 2024, which constitutes the decision of the BLM and makes the approved RMPs effective immediately.

DATES: The Colorado State Director signed the RODs on October 16, 2024.

ADDRESSES: The RODs/approved RMPs are available online at https://eplanning.blm.gov/eplanning-ui/project/2016085/510. Printed copies of the RODs/approved RMPs are available for public inspection at the Colorado River Valley and Grand Junction Field Offices or can be provided upon request by contacting BLM Project Manager Heather Sauls at hsauls@blm.gov or 970-878-3855.

A copy of the Protest Resolution Report is available at: https://www.blm.gov/programs/planning-and-nepa/public-participation/protest-resolution-reports.

FOR FURTHER INFORMATION CONTACT: Heather Sauls, Project Manager, telephone 970-878-3855; address BLM Upper Colorado River District, 2518 H Road, Grand Junction, CO 81506; email hsauls@blm.gov. Individuals in the United States who are deaf, deafblind, hard of hearing, or have a speech disability may dial 711 (TTY, TDD, or TeleBraille) to access telecommunications relay services for contacting Ms. Sauls. Individuals outside the United States should use the relay services offered within their country to make international calls to the point-of-contact in the United States.

SUPPLEMENTARY INFORMATION: The planning area is identical to the combined planning areas for the 2015 CRVFO RMP and the 2015 GJFO RMP. Within the CRVFO portion of the supplemental EIS planning area, approximately 517,500 acres of BLM-administered surface lands and approximately 711,300 acres of BLM-administered Federal fluid mineral estate are in Eagle, Garfield, Mesa, Pitkin, and Routt Counties in Colorado. Within the GJFO portion of the planning area, approximately 1,067,500 acres of BLM-administered surface lands and approximately 1,235,600 acres of BLM-administered Federal fluid mineral estate are in Garfield, Mesa, Montrose, and Rio Blanco Counties in Colorado. The decision area is BLM-administered surface lands (BLM-administered lands) and the Federal fluid mineral estate below BLM-administered lands, split-estate lands, and other Federal lands (but not National Forest System lands).

The BLM prepared a supplemental environmental impact statement (EIS) to the 2014 CRVFO RMP/final EIS and 2015 GJFO RMP/Final EIS. The BLM issued RODs and approved the RMPs for the CRVFO and GJFO in 2015. The supplemental EIS was written in response to a United States District Court, District of Colorado, opinion and order (1:16-cv-01822-LTB) regarding the CRVFO RMP ROD and a subsequent settlement agreement. The court granted a partial remand without vacating the decisions contained in the EIS and ROD so that the BLM could address two deficiencies identified by the court. The supplemental EIS also responds to a court-approved voluntary remand of the GJFO ROD (1-19-cv-02869-REB) to allow the BLM to address the same deficiencies identified in the CRVFO case.

Through this collaborative planning effort, the approved RMPs describe the actions to guide future management and meet desired resource conditions. The proposed RMP (Alternative G) in the final supplemental EIS was carried forward as the approved RMP. As part of this supplemental EIS planning effort, the BLM identified several units within the planning area requiring an updated wilderness characteristics inventory; the updated inventory increased the size of the Flat Tops unit (from 3,500 acres to 6,900 acres) and the Pisgah Mountain unit (from 14,500 acres to 16,300 acres).

The approved RMP retains the areas closed to fluid mineral leasing in the 2015 CRVFO and GJFO RMPs and also retains the fluid mineral stipulations. Within the CRVFO, areas closed to oil and gas leasing in the 2015 RMP include: all Wilderness Study Areas (WSAs); lands within municipal boundaries; the Upper Colorado River Special Recreation Management Area (SRMA); Blue Hill, Bull Gulch, Deep Creek, and Thompson Creek Areas of Critical Environmental Concern (ACECs); Deep Creek, Flat Tops Addition, Pisgah Mountain, and Thompson Creek lands with wilderness characteristics; Deep Creek and two Colorado River segments found eligible for inclusion in the National Wild and Scenic Rivers System; and all State wildlife areas. Within the GJFO, areas closed to oil and gas leasing in the 2015 RMP include: all WSAs; Bangs, Dolores River, and Palisade Rim SRMAs; Gunnison River Bluffs Extensive Recreation Management Area; Badger Wash, Dolores River Riparian, Juanita Arch, Rough Canyon, Sinbad Valley, The Palisade, and Unaweep Seep ACECs; Bangs, Maverick, and Unaweep lands with wilderness characteristics; Gunnison sage-grouse critical habitat and greater sage-grouse habitat within 1 mile of an active lek; Grand Junction and Palisade municipal watersheds; and Bureau of Reclamation withdrawal areas.

The approved RMPs close the no-known and low oil and gas development potential areas to future fluid mineral leasing, except for the helium potential area (GJFO), which remains open to leasing. Medium oil and gas development potential areas are closed where they are surrounded by low oil and gas development potential areas within the CRVFO. Medium oil and gas development potential areas that are either adjacent to (CRVFO) or surrounded by (GJFO) high oil and gas development potential areas remain open for oil and gas leasing. The high potential areas remain open for fluid mineral leasing. Within the high potential and open medium potential areas, there are areas closed to fluid mineral leasing due to specific resource concerns. Geothermal resources remain open to leasing, except for those within areas closed to oil and gas leasing due to specific resource concerns, and fluid mineral stipulations in the approved RMPs apply.

The approved RMPs also close five existing designated ACECs to fluid mineral leasing to protect their relevant and important values, including the Glenwood Springs Debris Flow Hazard Zones and Grand Hogback ACECs in CRVFO, and the Atwell Gulch, Indian Creek, and Pyramid Rock ACECs in GJFO. The approved RMPs expand the existing Grand Hogback ACEC (CRVFO) and Pyramid Rock ACEC (GJFO).

Within the CRVFO, the approved RMP designates the Castle Peak Addition lands with wilderness characteristics unit as a WSA and closes the Thompson Divide Withdrawal Area to oil and gas leasing. Within the GJFO, the approved RMP manages Cone Mountain, Granite Creek, Kings Canyon, Lumsden Canyon, and West Creek units for protection of their wilderness characteristics.

Increased protections for the Roan and Carr Creeks ACEC and Jerry Creek, Mesa/Powderhorn, and Collbran municipal water source areas within the GJFO are provided through application of No-Surface-Occupancy stipulations.

The BLM provided the proposed RMP/final supplemental EIS on June 21, 2024, for a 30-day protest period and received three protest letters and one comment letter. The BLM Assistant Director resolved all protests. Responses to protest issues have been compiled and documented in a Protest Resolution Report (see ADDRESSES).

The BLM provided the proposed RMP/final supplemental EIS to the Governor of Colorado for a 60-day Governor's consistency review. No inconsistencies with State or local plans, policies, or programs were identified during the Governor's consistency review of the proposed RMP/final supplemental EIS. No changes to the proposed RMP/final supplemental EIS were necessary as a result of the Governor's consistency review.

(Authority: 40 CFR 1506.6; 43 CFR 1610.5-1)

Douglas J. Vilsack,
BLM Colorado State Director.

[FR Doc. 2024-24333 Filed 10-21-24; 8:45 am]

BILLING CODE 4331-16-P